COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before September 24, 2018.

ADDRESSES: Comments regarding the burden estimated or any other aspect of the information collection, including suggestions for reducing the burden, may be submitted directly to the Office of Information and Regulatory Affairs (OIRA), in OMB, within 30 days of this notice's publication by either of the following methods. Please identify the comments by “OMB Control No. 3038-0033.”

• By email addressed to: OIRAsubmissions@omb.eop.gov or

• By mail addressed to: the Office of Information and Regulatory Affairs, Office of Management and Budget, Attention Desk Officer for the Commodity Futures Trading Commission, 725 17th Street NW, Washington DC 20503.

A copy of all comments submitted to OIRA should be sent to the Commodity Futures Trading Commission (the “Commission”) by any of the following methods. The copies should refer to “OMB Control No. 3038-0033.”

• By mail addressed to: Christopher Kirkpatrick, Secretary of the Commission, Commodity Futures Trading Commission, Three Lafayette Centre, 1155 21st Street NW, Washington, DC 20581;

• By Hand Delivery/Courier to the same address; or

• Through the Commission's website at http://comments.cftc.gov. Please follow the instructions for submitting comments through the website.

A copy of the supporting statement for the collection of information discussed herein may be obtained by visiting http://RegInfo.gov.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Robert Schwartz, Deputy General Counsel, Office of the General Counsel, Commodity Futures Trading Commission, (202) 416-5958; email: rschwartz@cftc.gov, and refer to OMB Control No. 3038-0033.

SUPPLEMENTARY INFORMATION:

Title: Notification of Pending Legal Proceedings Pursuant to 17 CFR 1.60 (OMB Control Number 3038-0033.) This is a request for extension and revision of a currently approved information collection.

Abstract: Rule 1.60 of the Commission's Part 1 regulations requires every designated contract market (“DCM”) and futures commission merchant (“FCM”) to submit to the Commodity Futures Trading Commission (“Commission”) certain specified information concerning pending legal proceedings to which the DCM or FCM is a party or to which its property is subject.² This renewal updates the total requested burden based on available reported data.

² 17 CFR 1.60 (2018).

An agency may not conduct or sponsor, and a person is not required to respond to, a collection of information unless it displays a currently valid OMB control number. On June 6, 2018, the Commission published in the Federal Register notice of the proposed extension of this information collection and provided 60 days for public comment on the proposed extension, 83 FR 26269 (“60-Day Notice”). The Commission originally estimated that 79 entities would be affected by this rule. That number was based on the number of active registered DCMs (16) and FCMs (63).³ These numbers remain current, and the Commission did not receive any substantial comments on the 60-Day Notice.

³ 83 FR 26269 (Jun. 6, 2018).

Burden Statement: The respondent burden for this collection is estimated to average 0.20 hours per response, once annually. This estimate includes providing the Commission with notice and copies of specified legal documents.

Respondents/Effective Entities: DCMs and FCMs.

Estimated Number of Respondents/Responses: 79.⁴

⁴ The current number of registrants, 79, has decreased from the previous 105 in 2015, due to a drop in registration.

Estimated Average Annual Burden Hours per Respondent: 0.20.

Estimated Total Annual Burden Hours: 15.8.⁵

⁵ Accordingly, the total annual burden on respondents has also been reduced, from 21 hours (105 × 0.20 = 21) in 2015 to 15.8 currently.

Frequency of Collection: Once annually.

(Authority: 44 U.S.C. 3501 et seq.)

Dated: August 21, 2018.
Christopher Kirkpatrick,
Secretary of the Commission.

[FR Doc. 2018-18330 Filed 8-23-18; 8:45 am]

BILLING CODE 6351-01-P